DEPARTMENT OF THE INTERIOR

Fish and Wildlife Service

50 CFR Part 17

RIN 1018-AH10

Endangered and Threatened Wildlife and Plants: Prudency Determinations for Eight Plant Species From the Hawaiian Islands, and Proposed Critical Habitat Designations for Eighteen Plant Species From the Island of Lanai, Hawaii; Correction

AGENCY: Fish and Wildlife Service, Interior.

ACTION: Proposed rule; Correction.

SUMMARY: The proposed rule to determine prudency for eight plant species from the Hawaiian Islands and to propose critical habitat designations for eighteen plant species from the island of Lanai was published in the Federal Register on December 27, 2000 (65 FR 82086). This document contains corrections to the proposed designations of critical habitat for eighteen plant species from Lanai. These corrections are necessary to provide the correct map of general locations of units for eighteen plant species from Lanai and to provide the correct maps and UTM coordinates for critical habitat units Lanai B, I, and J. As noted in the proposed rule, the GIS maps are provided to assist the public in identifying areas that may fall within the proposed designations. The corrected critical habitat units are described below.

FOR FURTHER INFORMATION CONTACT: Paul Henson, Field Supervisor, U.S. Fish and Wildlife Service, Pacific Islands Office, 300 Ala Moana Blvd., P.O. Box 50088, Honolulu, Hawaii 96850-0001 (telephone 808/541-3441; facsimile 808/541-3470).

SUPPLEMENTARY INFORMATION: On December 27, 2000, the U.S. Fish and Wildlife Service (Service) published a proposal to designate critical habitat for 18 plant species from the island of Lanai, Hawaii. In that proposal, a total of approximately 1,953 hectares (ha) (4,826 acres (ac)) on the island of Lanai were proposed as critical habitat.

As published, the proposal contained errors in Table 5 (“Approximate Proposed Critical Habitat Area by Unit, Lanai, Maui County, Hawaii”) and in the “Descriptions of Critical Habitat Units” for units Lanai B and I. The corrected total area for Lanai B is 137 ha (339 ac) and for Lanai I 176 ha (436 ac). As a result, the corrected total area proposed as critical habitat is now 2,034 ha (5,027 ac) on Lanai. In addition, the proposal contained errors in the legal descriptions and maps depicting critical habitat for units Lanai B, I, and J. We are providing corrected legal descriptions and GIS maps of critical habitat units Lanai B, I, and J. The legal descriptions of the critical habitat designations required by regulation (50 CFR 424.12(c)) are the UTM coordinates that provide specific limits using reference points as found on standard topographic maps of the areas.

Accordingly, make the following corrections to FR Doc. 00-31080 published at 65 FR 82086 on December 27, 2000:

PART 17—[CORRECTED]

§ 17.96 [Corrected]

1. On page 82111, in § 17.96(a)(1)(i)(E), correct the map for “General Locations of Units for 18 Species of Plants, Island of Lanai” to read as follows:

§ 17.96 Critical habitat—plants.

(a) * * *

(1) * * *

(i) * * *

(E) * * *

BILLING CODE 4310-55-P

* * * * *

2. On page 82112, in column 2, in § 17.96(a)(1)(i)(E), correct the coordinates and legal description, and map for Lanai B to read as follows:

* * * * *

(a) * * *

(1) * * *

(i) * * *

(E) * * *

Critical Habitat Unit Lanai B: Area consists of the following seven boundary points: 723152, 2299428; 723686, 2299254; 723871, 2298540; 723158, 2298040; 722708, 2298220; 722422, 2298574; 722551, 2299102.

NOTE: Map follows:

* * * * *

3. On page 82114, in column 3, in § 17.96(a)(1)(i)(E), correct the coordinates and legal description, and map for Lanai I to read as follows:

* * * * *

(a) * * *

(1) * * *

(i) * * *

(E) * * *

Critical Habitat Unit Lanai I: Area consists of the following seven boundary points: 723999, 2305825; 723340, 2305440; 722686, 2305597; 722499, 2306432; 723217, 2306957; 723807, 2306835; 724116, 2306461.

Note: Map follows:

* * * * *

4. On page 82115, in columns 1 and 2, in § 17.96(a)(1)(i)(E), correct the coordinates and legal description, and map for Lanai J to read as follows:

* * * * *

(a) * * *

(1) * * *

(i) * * *

(E) * * *

Critical Habitat Unit Lanai J: Area consists of the following eight points and the intermediate coastline: 702559, 2313776; 702658, 2313650; 702688, 2313348; 702566, 2313030; 702299, 2312864; 702063, 2312826; 701890, 2312877; 701888, 2312878.

Note: Map follows:

* * * * *

Dated: March 28, 2001.
Rowan W. Gould,
Acting Regional Director, Region 1, Fish and Wildlife Service.

[FR Doc. 01-8473 Filed 4-5-01; 8:45 am]

BILLING CODE 4310-55-C